DEPARTMENT OF COMMERCE

International Trade Administration

[A-570-848]

Notice of Extension of Time Limit of Preliminary Results of New Shipper Review: Freshwater Crawfish Tail Meat From the People's Republic of China

AGENCY: Import Administration, International Trade Administration, U.S. Department of Commerce.

SUMMARY: The Department of Commerce is extending the time limit of the preliminary results of the new shipper review of the antidumping duty order on freshwater crawfish tail meat from the People's Republic of China until no later than February 13, 2003. The period of review is September 1, 2001, through February 28, 2002. This extension is made pursuant to section 751(a)(2)(B)(iv) of the Tariff Act of 1930, as amended.

EFFECTIVE DATE: November 1, 2002.

FOR FURTHER INFORMATION CONTACT: Douglas Kirby or Thomas Gilgunn, AD/CVD Enforcement, Import Administration, International Trade Administration, U.S. Department of Commerce, 14th Street and Constitution Avenue, N.W., Washington D.C. 20230; telephone: (202) 482-3782 or (202) 482-4236, respectively.

SUPPLEMENTARY INFORMATION:

Applicable Statutes and Regulations

Unless otherwise indicated, all citations to the statute are references to the provisions of the Tariff Act of 1930, as amended (the Act). In addition, unless otherwise indicated, all citations to the Department's regulations are to the provisions codified at 19 CFR Part 351(2002).

Statutory Time Limits

Section 751(a)(2)(B)(iv) of the Act requires the Department to issue the preliminary results of a new shipper review within 180 days after the date on which the new shipper review was initiated, and final results of review within 90 days after the date on which the preliminary results were issued. However, if the Department determines the issues are extraordinarily complicated, section 751(a)(2)(B)(iv) of the Act allows the Department to extend the deadline for the preliminary results to up to 300 days after the date on which the new shipper review was initiated.

Background

On March 29, 2002 the Department received a timely request from Weishan Zhenyu Foodstuff Co., Ltd. (Zhenyu), in accordance with section 751(a)(2)(B) of the Act and section 351.214(c) of the regulations, for a new shipper review of the antidumping duty order on freshwater crawfish tail meat from the People's Republic of China (“PRC”), which has a September anniversary date. On April 23, 2002 the Department initiated this new shipper review covering the period September 1, 2001, through February 28, 2002. See Freshwater Crawfish Tail Meat From the People's Republic of China: Initiation of New Shipper Antidumping Review (67 FR 21218). On September 26, 2002, the Department extended the preliminary results of this review by 33 days until November 22, 2002. See Freshwater Crawfish Tail Meat From the People's Republic of China: Notice of Extension of Time Limit of Preliminary Results of New Shipper Review (67 FR 60640).

Extension of Time Limits for Preliminary Results

Pursuant to section 751(a)(2)(B)(iv) of the Act, the Department may extend the deadline for completion of the preliminary results of a new shipper review if it determines that the case is extraordinarily complicated. The Department has determined that this case is extraordinarily complicated, and the preliminary results of this new shipper review cannot be completed within the statutory time limit of 180 days. The Department finds that this new shipper review is extraordinarily complicated because of the issues that must be addressed. The Department is now analyzing the respondent's supplemental questionnaire response containing additional information concerning affiliation, date of sale, and factor value data. Given the issues in this case, the Department may find it necessary to request further information in this new shipper review. Therefore, in accordance with section 351.214(i)(2) of the regulations, the Department is extending the time limit for the completion of preliminary results for an additional 83 days. The preliminary results will now be due no later than February 13, 2003.

This notice is published pursuant to sections 751(a)(2)(B) and 777(i)(1) of the Act.

Dated: October 25, 2002.
Richard O. Weible,
Acting Deputy Assistant Secretary for Import Administration, Group III.

[FR Doc. 02-27855 Filed 10-31-02; 8:45 am]

BILLING CODE 3510-DS-S